DEPARTMENT OF HEALTH AND HUMAN SERVICES

Health Resources and Services Administration

Rural Health Information Technology Network Development Grant

AGENCY: Health Resources and Services Administration (HRSA), Department of Health and Human Services (HHS).

ACTION: Notice of non-competitive replacement award to Grace Community Health Center.

SUMMARY: The Health Resources and Services Administration (HRSA) is issuing a non-competitive replacement award under the Rural Health Information Technology Network Development Grant (RHITND) to Grace Community Health Center in order to continue the effective use of grant funds to achieve the original goals of the project. Grace Community Health Center is familiar with the project activities and will continue to follow the goals and objectives outlined in the grant. The project director will remain the same, and Grace Community Health Center has the facilities and resources necessary to support successful performance of the project.

SUPPLEMENTARY INFORMATION:

Former Grantee of Record: Knox Hospital Corporation.

Original Period of Grant Support: September 1, 2011, to August 31, 2014.

Replacement Awardee: Grace Community Health Center.

Amount of Replacement Award: $520,000.

Period of Replacement Award: The period of support for this award is March 1, 2013, to August 31, 2014.

Authority: Section 330A (f) of the Public Health Service Act, as amended, 42 U.S.C .254c (f).

Catalog of Federal Domestic Assistance Number: 93.912.

Justification for the Exception to Competition: Knox County Hospital Corporation is relinquishing its fiduciary responsibilities for the Rural Health Information Technology Network Development (RHITND) Grant to the Grace Community Health Center, Inc. This is a non-competitive replacement award. As a current network partner, Grace Community Health Center is familiar and actively involved with the project activities and will continue to follow the goals and objectives outlined in the grant. Grace Community Health Center has the facilities and resources to support the successful implementation of the RHITND program, understands its responsibilities under the replacement award, and agrees to administer the grant award consistent with the original project scope.

FOR FURTHER INFORMATION CONTACT: Marcia Green, Public Health Analyst, Office of Rural Health Policy, Health Resources and Services Administration, Room 5A-05, 5600 Fishers Lane, Rockville, Maryland 20857; (301) 443-0076; email mgreen@hrsa.gov.

Dated: March 14, 2013.
Mary K. Wakefield,
Administrator .

[FR Doc. 2013-06420 Filed 3-20-13; 8:45 am]

BILLING CODE 4165-15-P